DEPARTMENT OF THE INTERIOR

Bureau of Land Management

DEPARTMENT OF AGRICULTURE

Forest Service

[CA 668_02_1610_DO_083A]

Monument Advisory Committee Meeting Announcement

AGENCY: Bureau of Land Management, Interior; United States Forest Service, Agriculture.

ACTION: Notice of meeting.

SUMMARY: The Bureau of Land Management (BLM) and United States Forest Service (USFS) announces a meeting of the Advisory Committee to the Santa Rosa and San Jacinto Mountains National Monument (hereinafter referred to as ANational Monument@). The meeting will be held on Saturday, November 23, 2002. The location for the meeting will be Palm Desert City Hall Council Chambers, located at 73-510 Fred Waring Drive, Palm Desert, California, 92260. The meeting will take place from 9 a.m. until 4 p.m. There will be a half hour dedicated to public input from 1 p.m. until 1:30 p.m. A sign up sheet will be located at the meeting room on the day of the meeting. Speakers wishing to comment publicly should sign the public comment sign-in sheet provided at the location of the meetings. All committee meetings are open to the general public, including representatives of the news media. Any organization, association, or individual may file a statement with or appear before the committee and its working groups regarding topics on a meeting agenda—except that the chairperson or the designated federal official may require written comments to the Advisory Committee. The topics to be discussed at the November 23rd, 2002 meeting include Issue Development and Alternative Development for the Management Plan for the National Monument. Additional information regarding the National Monument can be found on the following Web page : http://www.ca.blm.gov/palmsprings/. The subject matter of subsequent meetings will focus on the development and implementation of the Santa Rosa and San Jacinto Mountains National Monument Management Plan. This notice of the November 23rd, 2002 meeting date adds another meeting date to the previously noticed dates for Advisory Committee meetings. All meetings will occur from 9 a.m. until 4 p.m. at the same location listed above. The complete list of upcoming meeting dates follows:

• October 5th, 2002,

• November 23rd, 2002,

• December 5th, 2002,

• February 1, 2003.

The Monument Advisory Committee (MAC) is a committee of citizens appointed to provide advice to the BLM and USFS with respect to preparation and implementation of the management plan for the National Monument as required in the Santa Rosa and San Jacinto Mountains National Monument Act of 2000 (16 U.S.C. 431nt). The act authorized establishment of the MAC with representative members from State and local jurisdictions, the Agua Caliente Band of Cahuilla Indians, a natural science expert, local conservation organization, local developer or building organization, the Winter Park Authority and a representative from the Pinyon Community Council.

The meeting will be open to the public with attendance limited to space available. Individuals who plan to attend and need special assistance such as sign language interpretations or other reasonable accommodations should notify the contact person listed below in advance of the meeting. Persons wishing to make statements will need to sign up at the meeting location.

DATES: November 23rd, 2002. The meeting will take place from 9 a.m. to 4 p.m. with an afternoon public comment period from 1 p.m. to 1:30 p.m.

ADDRESSES: The meeting will be held in the Council Chambers of the Palm Desert City Hall, 73-510 Fred Waring Drive, Palm Desert, California, 92260.

FOR FURTHER INFORMATION CONTACT: Written comments should be sent to Miss Danella George, Santa Rosa San Jacinto Mountains National Monument Manager, Bureau of Land Management, PO Box 581260, North Palm Springs, CA 92258; or by fax at (760) 251-4899 or by e-mail at dgeorge@ca.blm.gov. Information can be found on our webpage: http://www.ca.blm.gov/palmsprings/. Documents pertinent to this notice, including comments with the names and addresses of respondents, will be available for public review at the Palm Springs-South Coast Field Office located at 690 W. Garnet Avenue, North Palm Springs, California, during regular business hours 8 a.m. to 4 p.m., Monday through Friday, except holidays.

SUPPLEMENTARY INFORMATION: The Santa Rosa and San Jacinto Mountains National Monument was established by act of Congress and signed into law on October 24, 2000. The National Monument was established in order to preserve the nationally significant biological, cultural, recreational, geological, educational and scientific values found in the Santa Rosa and San Jacinto Mountains. This legislation established the first monument to be jointly managed by the Bureau of Land Management (BLM) and the U.S. Forest Service (USFS). The Santa Rosa and San Jacinto Mountains National Monument Act of 2000 affects only Federal lands and Federal interests located within the established boundaries.

The 272,000 acre Monument encompasses 86,400 acres of Bureau of Land Management lands, 64,400 acres of Forest Service lands, 23,000 acres of Agua Caliente Band of Cahuilla Indians lands, 8,500 acres of California Department of Parks and Recreation lands, 35,800 acres of other State of California agencies lands, and 53,900 acres of private land. The BLM and the Forest Service will jointly manage Federal lands in the National Monument in coordination with the Agua Caliente Band of Cahuilla Indians, other federal agencies, state agencies and local governments.

Dated: October 8, 2002.
Danella George,
Designated Federal Official, National Monument Manager, Bureau of Land Management.
Laurie Rosenthal,
District Ranger, San Jacinto Ranger District, San Bernardino National Forest, Forest Service.

[FR Doc. 02-26477 Filed 10-17-02; 8:45 am]

BILLING CODE 4310-40-P